DEPARTMENT OF THE INTERIOR

Bureau of Indian Affairs

[201A2100DD/AAKC001030/A0A51010.999900]

Proclaiming Certain Lands as Reservation for the Shakopee Mdewakanton Sioux Community of Minnesota

AGENCY: Bureau of Indian Affairs, Interior.

ACTION: Notice of reservation proclamation.

SUMMARY: This notice informs the public that the Assistant Secretary—Indian Affairs proclaimed approximately 3.98 acres, more or less, an addition to the reservation of the Shakopee Mdewakanton Sioux Community on June 12, 2020.

FOR FURTHER INFORMATION CONTACT: Ms. Sharlene M. Round Face, Bureau of Indian Affairs, Division of Real Estate Services, 1001 Indian School Road, NE, Box #44, Albuquerque, New Mexico 87111, telephone (505) 563-3132.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be the Shakopee Reservation for the Shakopee Mdewakanton Sioux Community of Minnesota, Scott County, and State of Minnesota.

Shakopee Reservation for the Shakopee Mdewakanton Sioux Community of Minnesota

1 Parcel

Fifth Principal Meridian, Scott County, Minnesota

Legal Descriptions Containing 3.98 Acres, More or Less

Whipps 2 Parcel, 411 T 1023

All that part of the Northeast Quarter of the Northwest Quarter of Section 22, Township 115 North, Range 22 West of the Fifth Principal Meridian, located in Scott County, Minnesota, described as follows:

Commencing at the Northeast corner of the Northeast Quarter of the Northwest Quarter of Section 22; thence South 01 degrees 08 minutes 57 seconds West, along the east line of said Northeast Quarter of the Northwest Quarter, a distance of 621.16 feet to the point of beginning; thence continuing South 01 degrees 08 minutes 57 seconds West, along said east line, a distance of 349.75 feet; thence North 88 degrees 39 minutes 13 seconds West, a distance of 501.20 feet; thence North 03 degrees 09 minutes 13 seconds West, a distance of 326.00 feet; thence North 88 degrees 39 minutes 00 seconds East, a distance of 526.16 feet to the point of beginning.

The above described lands contain a total of 3.98 acres, more or less, which are subject to all valid rights, reservations, rights-of-way, and easements of record.

This proclamation does not affect title to the lands described above, nor does it affect any valid existing easements for public roads, highways, public utilities, railroads and pipelines, or any other valid easements or rights-of-way or reservations of record.

Tara Sweeney,
Assistant Secretary—Indian Affairs.

[FR Doc. 2020-14485 Filed 7-6-20; 8:45 am]

BILLING CODE 4337-15-P